DEPARTMENT OF TRANSPORTATION

Surface Transportation Board

[STB Finance Docket No. 35322]

Georgia Southern Railway Co.—Lease and Operation Exemption and Operation Exemption—Certain Lines of Georgia Midland Railroad, Inc. and Heart of Georgia Railroad, Inc.

Georgia Southern Railway Co. (GASR), a noncarrier, has filed a verified notice of exemption under 49 CFR 1150.31 pursuant to an agreement with: (1) The Georgia Midland Railroad, Inc. to assume lease and operation of the following lines: (a) The Perry Line between milepost N-219.7 at or near Fort Valley, GA, and milepost 232.6 at or near Perry, GA, a distance of approximately 12.9 miles, in Peach and Houston Counties, GA, (b) the Roberta Line between milepost 95.5FV at or near Roberta, GA, and milepost 105.3FV at or near Fort Valley, GA, a distance of approximately 9.8 miles in Peach and Crawford Counties, GA, and (c) the Metter Line between milepost W-57.5 at or near Dover, GA, and milepost W-86.7 at or near Metter, GA, a distance of approximately 29.2 miles in Candler, Bulloch and Screven Counties, GA; and (2) the Heart of Georgia Railroad, Inc. (HOG) to operate, under contract with HOG, a line currently leased and operated by HOG between milepost 194.64 at or near Midville, GA, and milepost 152.2 at or near Vidalia, GA, a distance of approximately 42.4 miles in Toombs, Treutlen, Emanuel and Jenkins Counties, GA.¹

¹ GASR notes that HOG will retain a common carrier obligation for the line. In addition, GASR will acquire a common carrier obligation for the line once it consummates the proposed transaction.

This transaction is related to a concurrently filed verified notice of exemption in STB Finance Docket No. 35323, Pioneer Railcorp-Continuance in Control Exemption-Georgia Southern Railway Co. In that proceeding, Pioneer Railcorp has sought an exemption to continue in control of GASR upon GASR's becoming a Class III rail carrier.

GASR certifies that its projected annual revenues as a result of the transaction will not result in GASR becoming a Class II or Class I rail carrier and further certifies that its projected annual revenues will not exceed $5 million.

The transaction is scheduled to be consummated on December 16, 2009 (the effective date of this exemption).

Pursuant to the Consolidated Appropriations Act, 2008, Public Law 110-161, § 193, 121 Stat. 1844 (2007), nothing in this decision authorizes the following activities at any solid waste rail transfer facility: collecting, storing or transferring solid waste outside of its original shipping container; or separating or processing solid waste (including baling, crushing, compacting and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions for stay must be filed no later than December 9, 2009 (at least 7 days before the exemption becomes effective).

An original and 10 copies of all pleadings, referring to STB Finance Docket No. 35322, must be filed with the Surface Transportation Board, 395 E Street, SW., Washington, DC 20423-0001. In addition, a copy of each pleading must be served on Daniel A. LaKemper, 1318 S. Johanson Road, Peoria, IL 61607.

Board decisions and notices are available on our Web site at “http://www.stb.dot.gov.”

Decided: November 24, 2009.
By the Board, Rachel D. Campbell, Director, Office of Proceedings.
Jeffrey Herzig,
Clearance Clerk.

[FR Doc. E9-28652 Filed 12-1-09; 8:45 am]

BILLING CODE 4915-01-P